DEPARTMENT OF DEFENSE

Office of the Secretary

[Docket ID: DoD-2022-OS-0128]

Proposed Collection; Comment Request

AGENCY: Office of the Under Secretary of Defense for Intelligence and Security (OUSD(I&S)), Department of Defense (DoD).

ACTION: 60-Day information collection notice.

SUMMARY: In compliance with the Paperwork Reduction Act of 1995, the OUSD(I&S) Counterintelligence & Law Enforcement Directorate (CILED) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 27, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of the Under Secretary of Defense for Intelligence and Security, 5000 Defense Pentagon, Washington, DC 20301, ATTN: Christie Bolton, Major, or call 703-614-6068.

SUPPLEMENTARY INFORMATION:

Title; Associated Form; and OMB Number: Qualification to Possess Firearms or Ammunition; DD Form 2760; OMB Control Number 0704-0461.

Needs and Uses: The information collection is necessary to determine if a Department of Defense (DoD) employee or potential employee who will carry a firearm related to a covered position does not have a qualifying conviction of domestic violence. The applicant uses the DD Form 2760, “Qualification to Possess Firearms of Ammunition,” to ensure compliance with 18 U.S.C. 922 and DoDI 6400.06. This disclosure is mandatory for all DoD employees or potential employees who are required by their job duties to possess a firearm or ammunition.

Affected Public: Individuals or households.

Annual Burden Hours: 3,750.

Number of Respondents: 15,000.

Responses per Respondent: 1.

Annual Responses: 15,000.

Average Burden per Response: 15 minutes.

Frequency: Annually.

Dated: November 22, 2022.
Aaron T. Siegel,
Alternate OSD Federal Register Liaison Officer, Department of Defense.

[FR Doc. 2022-25854 Filed 11-25-22; 8:45 am]

BILLING CODE 5001-06-P